SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995 requires federal agencies to publish a notice in the Federal Register concerning each proposed collection of information before submission to OMB, and to allow 60 days for public comment in response to the notice. This notice complies with that requirement.

DATES: Submit comments on or before November 9, 2020.

ADDRESSES: Send all comments to Amber Chaudhry, Customer Experience Lead, Business Technology Solutions Division, Office of the Chief Information Officer Small Business Administration, 409 3rd Street, 4th Floor, Washington, DC 20416.

FOR FURTHER INFORMATION CONTACT: Amber Chaudhry, Customer Experience Lead, amber.chaudhry@sba.gov, 202-657-9722 or Curtis B. Rich, Management Analyst, 202-205-7030, curtis.rich@sba.gov.

SUPPLEMENTARY INFORMATION: Abstract: A modern, streamlined and responsive customer experience means: Raising government-wide customer experience to the average of the private sector service industry; developing indicators for high-impact Federal programs to monitor progress towards excellent customer experience and mature digital services; and providing the structure (including increasing transparency) and resources to ensure customer experience is a focal point for agency leadership.

This proposed information collection activity provides a means to garner customer and stakeholder feedback in an efficient, timely manner in accordance with Section 280 of OMB Circular A-11 at https://www.whitehouse.gov/wp-content/uploads/2018/06/s280.pdf.

The U.S. Small Business Administration will collect, analyze, and interpret information gathered through this generic clearance to identify services' accessibility, navigation, and use by customers, and make improvements in service delivery based on customer insights gathered through developing an understanding of the customer experience interacting with Government.

The results will be used to improve the delivery of Federal services and programs. It will also provide government-wide data on customer experience that can be displayed on www.performance.gov to help build transparency and accountability of Federal programs to the customers they serve.

SBA will only submit collections if they meet the following criteria:

• The collections are voluntary;

• The collections are low-burden for respondents (based on considerations of total burden hours or burden-hours per respondent) and are low-cost for both the respondents and the Federal Government;

• The collections are non-controversial and do not raise issues of concern to other Federal agencies;

• Any collection is targeted to the solicitation of opinions from respondents who have experience with the program or may have experience with the program in the near future;

• Personally identifiable information (PII) is collected only to the extent necessary and is not retained;

• Information gathered is intended to be used for general service improvement and program management purposes;

• Upon agreement between OMB and the agency collecting the information, all or a subset of information may be released only on performance.gov. Release of any other data must be discussed with OMB before release.

Public responses to these individual collections will provide insights in improving services offered to the public. If this information is not collected, vital feedback from customers and stakeholders on services will be unavailable.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Generic Clearance for SBA Customer Experience Data Collections.

Description of Respondents: Generic Customer Base.

Form Number: N/A.

Total Estimated Annual Responses: 501,550.

Total Estimated Annual Hour Burden: 251,125.

Curtis Rich,
Management Analyst.

[FR Doc. 2020-19919 Filed 9-8-20; 8:45 am]

BILLING CODE 8026-03-P